FEDERAL COMMUNICATIONS COMMISSION

47 CFR Parts 1, 73 and 74

[MM Docket No. 97-234, GC Docket No. 92-52, and GEN Docket No. 90-264; FCC 98-194]

Implementation of Competitive Bidding for Commercial Broadcast and Instructional Television Fixed Service Licenses

AGENCY: Federal Communications Commission.

ACTION: Final rule; correction.

SUMMARY: This document corrects an error that appears in the summary of Implementation of Competitive Bidding for Commercial Broadcast and Instructional Television Fixed Service Licenses, published in the Federal Register of Friday, September 11, 1998, 63 FR 48615. Paragraph 17 of the Federal Register summary erroneously omitted a requirement that winning bidders in broadcast service auctions pay an application fee when filing their long form applications.

DATES: Effective April 26, 2013.

FOR FURTHER INFORMATION CONTACT: Office of Managing Director, Financial Operations: call Thomas Buckley at (202) 418-0725.

SUPPLEMENTARY INFORMATION:

Background

In Implementation of Competitive Bidding for Commercial Broadcast and Instructional Television Fixed Service Licenses, MM Docket No. 97-234 et al., First Report and Order, 13 FCC Rcd 15920 (First R&O), the Commission adopted final rules applicable for auctions for licenses in the broadcast services. With specified exceptions, the First R&O followed the rules the Commission had previously adopted for non-broadcast service auctions. The original publication of the First R&O appeared in 63 FR 48615-48629 (Sept. 11, 1998).

Need for Correction

In Paragraph 164 of the First R&O, the Commission adopted two exceptions to its general auctions rules on post-auction procedures, requiring that winning bidders in broadcast auctions pay an application fee when filing their long-form applications, and allowing a shortened 10-day period for the filing of petitions to deny the long-form applications filed by winning bidders. As published, Paragraph 17 of the Federal Register summary inadvertently omitted the requirement that long form applications be submitted with an application fee. This correction is issued to address that omission and remedy any confusion resulting from it. Accordingly, paragraph 17 is corrected by making the following amendments:

17. With specified exceptions the Commission also determined to follow in broadcast auctions the general part 1 auction rules with regard to post-auction procedures, including the payment by winning bidders of their bids and the withdrawal, default and disqualification of winning bidders. The Commission stated that long form application fees will apply to the long-form applications filed by winning bidders in broadcast auctions. The First R&O additionally adopted a shortened 10-day period for the filing of petitions to deny against the long-form applications filed by auction winners.

Federal Communications Commission.
Marlene H. Dortch,
Secretary.

[FR Doc. 2013-06976 Filed 3-26-13; 8:45 am]

BILLING CODE 6712-01-P